FEDERAL COMMUNICATIONS COMMISSION

Federal Advisory Committee Act

AGENCY: Federal Communications Commission.

ACTION: Notice of public meeting.

SUMMARY: In accordance with the Federal Advisory Committee Act, Public Law 92-463, as amended, this notice advises interested persons that the Advisory Committee on Diversity for Communications in the Digital Age will hold its fifth meeting on December 10, 2004, in Miami, Florida.

DATES: December 10, 2004, 1 p.m.-4 p.m.

ADDRESSES: Florida Memorial College, 15800 NW., 42nd Ave., Miami, FL 33054-6155.

FOR FURTHER INFORMATION CONTACT: Linda Blair, Designated Federal Officer of the Committee on Diversity, or Maureen C. McLaughlin, Alternate Designated Federal Officer of the Committee on Diversity, 202-418-2030, e-mail Linda.Blair@fcc.gov, Maureen.Mclaughlin@fcc.gov. Press Contact, Audrey Spivak, Office of Public Affairs, 202-418-0512, Audrey.Spivak@fcc.gov.

SUPPLEMENTARY INFORMATION: The Diversity Committee was established by the Federal Communications Commission to examine current opportunities and develop recommendations for policies and practices that will further enhance the ability of minorities and women to participate in telecommunications and related industries. The Diversity Committee will prepare periodic and final reports to aid the FCC in its oversight responsibilities and its regulatory reviews in this area. In conjunction with such reports and analyses, the Diversity Committee will make recommendations to the FCC concerning the need for any guidelines, incentives, regulations or other policy approaches to promote diversity of participation in the communications sector. The Diversity Committee will also develop a description of best practices within the communications sector for promoting diversity of participation.

Agenda

At the December 10, 2004 meeting, the Committee will discuss recommendations from the subcommittees. The Subcommittee on Career Advancement will propose, for approval of the full Advisory Committee, a regulatory initiative for career advancement, diversity resource directory, and further report on the best of the Best Practices as identified in the survey, “Workplace Diversity: A Global Necessity and an Ongoing Commitment.” The Transactional Transparency and Outreach Subcommittee will present, for approval of the full Advisory Committee, a recommendation on Merger Review. The Financial Issues Subcommittee will present, for approval of the full Advisory Committee, a Community Reinvestment Act recommendation and Foreign Ownership Rule proposal.

Information concerning the activities of the Diversity Committee can be reviewed at the Committee's Web site http://www.fcc.gov/DiversityFAC. Material relevant to the December 10th meeting will be posted there. Members of the general public may attend the meeting. The Federal Communications Commission will attempt to accommodate as many people as possible. However, admittance will be limited to the seating available. A live RealAudio feed over the Internet will not be available.

The public may submit written comments to the Committee's Designated Federal Officer before the meeting. Members of the Advisory Committee and the public may submit written comments at any time by following the instructions on the Web site.

Federal Communications Commission.
Marlene H. Dortch,
Secretary.

[FR Doc. 04-25516 Filed 11-16-04; 8:45 am]

BILLING CODE 6712-01-P